DEPARTMENT OF DEFENSE

Department of the Army; Corps of Engineers

Intent To Prepare an Environmental Impact Statement for the Regional Dredged Material Management Plan for San Francisco Bay and Estuary, CA

AGENCY: Department of the Army, U.S. Army Corps of Engineers, DOD.

ACTION: Notice of intent.

SUMMARY: The U.S. Army Corps of Engineers, San Francisco District (Corps) will prepare an Environmental Impact Statement (EIS) for the San Francisco Bay and Estuary Regional Dredged Material Management Plan (Regional DMMP). The Regional DMMP will identify specific measures to manage the dredged material from maintenance and construction dredging at Federal navigation projects over the next twenty years. The Corps will take into consideration the dredged sediment from non-Federal, permitted dredging projects with the Bay and Estuary in formulating the Regional DMMP to the extent that disposal of the material affects the capacity and availability of disposal options required for Federal projects.

DATES: A scoping meeting will be held Thursday, December 16, 2004 from 7 p.m. until 9 p.m.

ADDRESSES: The meeting will be at the Joseph P. Bort MetroCenter, 101 Eighth Street, Oakland, CA (510) 464-7700. TDD/TTY is (510) 464-7769. Public transit access includes BART (Lake Merritt Station on Fremont Line), AC Transit and Amtrak.

FOR FURTHER INFORMATION CONTACT: Questions about the proposed action and Environmental Impact Statement should be directed to Mr. Richard Stradford, either at (415) 977-8669 or richard.a.stradford@ spd02.usace.army.mil. Written correspondence should be sent to Mr. Stradford, U.S. Army Corps of Engineers, San Francisco District, 333 Market Street, San Francisco, CA 94105.

SUPPLEMENTARY INFORMATION: Pursuant to Section 102(2)(c) of the National Environmental Policy Act (NEPA) of 1969 as implemented by the Council on Environmental Quality regulations (40 CFR Parts 1500-1508) and Pub. L. 102-484 Section 2834, as amended by Pub. L. 104-106 Section 2867, the Department of the Army hereby gives notice of intent to prepare an Environmental Impact Statement (EIS) for the subject Regional DMMP. The San Francisco District of the Corps will be the lead agency in preparing the EIS. The EIS will provide an analysis supporting the requirements of NEPA in addressing impacts to the environment that may result from the implementation of the Regional DMMP.

1. Proposed Action. The U.S. Army Corps of Engineers regulation (Engineer Regulation 1105-2-100) requires that a dredged material management plan be prepared for each Federal navigation project. Where there are groups of interrelated harbor projects, a regional plan may be developed, which is the approach proposed for the projects in the San Francisco Bay and Estuary. Such plans are intended to implement channel and harbor dredging and disposal in a cost effective and environmentally acceptable manner. The proposed Regional DMMP will focus on the management of dredged material from maintaining Federal navigation channels and constructing new navigation projects, and will take into consideration the non-Federal dredging projects permitted by the San Francisco District. The approved Regional DMMP will be consistent with sound engineering practices and meet all Federal environmental standards, including those established by Section 404 of the Clean Water Act (1972) and Section 103 of the Marine Protection Research and Sanctuaries Act (1972), as amended. In addition, the Regional DMMP will be consistent with State and local plans such as the California Regional Water Quality Control Board's “Basin Plan” and the San Francisco Bay Conservation and Development Commission's “Bay Plan” (locally approved plan of the Coastal Zone Management Act of 1972). As a partner in the Long Term Management Strategy (LTMS) to manage dredged material in the San Francisco Bay Region, the Corps is committed to incorporating into the Regional DMMP the goals that the multi-agency consortium has established. The Regional DMMP will work towards meeting the LTMS goal of reducing in-Bay disposal of dredged material, eventually reaching the target of 40% ocean disposal, 40% beneficial reuse and 20% in-Bay disposal. In addition, in response to LTMS recommendations, the Regional DMMP will consider changes to the design parameters of navigation projects such as channel width, depth and configuration, in terms of changes that would reduce the volume of dredging necessary to meet the navigational needs of each project.

2. Project Alternatives. The alternatives for the Regional DMMP and EIS will consist of an array of disposal and beneficial reuse options for each of the Federal projects, which currently are the Napa River, Oakland Harbor, Petaluma River, Pinole Shoal Channel, Redwood City Harbor, Richmond Harbor, San Francisco Bar Channel, San Leandro Marina, San Rafael Creek and Suisun Bay Channel projects. There are approximately 70 non-Federal dredging projects, and the management of dredged material from them will be taken into account to the extent that it impacts the availability of disposal sites for the Federal dredged material.

The current beneficial reuse projects to be examined are predominantly wetlands restoration efforts, with the Hamilton Field & Bel Marin Keys Wetlands Restoration and Montezuma Wetlands being the two main plans. Additional beneficial-use initiatives are the disposal ponds at Mare Island, the Carneros River Ranch and Bair Island projects, as well as levee-rehabilitation projects on selected Sacramento/San Joaquin Delta islands (e.g., Sherman Island, Winter Island, and Van Sickle Island). The historically used in-Bay aquatic disposal sites to be carried forward in the Regional DMMP are the Carquinez Strait, San Pablo Bay, Alcatraz, and Suisun Bay sites. Ocean disposal sites for evaluation are the San Francisco Bar (actually a reuse site for dredged sand from the Bar Channel just outside the Golden Gate) and the San Francisco Deep Ocean Disposal site, located approximately 50 miles west of San Francisco.

3. Scoping Process. The Corps is requesting information as well as the views of interested Federal, State, and local agencies, Native American tribes, and other interested private organizations and parties through provision of this notice and holding of a scoping meeting (see DATES). The main purpose of this meeting is to solicit input regarding the environmental issues of concern and the alternatives that should be discussed in the Regional DMMP and EIS. The public comment period closes 30 days from the publication of this notice. Additional public meetings are anticipated prior to the release of the draft EIS.

4. Availability of EIS. The public will have an additional opportunity to comment on the proposed alternatives after the draft EIS has been released, currently scheduled for January 2006.

Brenda S. Bowen,
Army Federal Register Liaison Officer.

[FR Doc. 04-26261 Filed 11-26-04; 8:45 am]

BILLING CODE 3710-19-M